DEPARTMENT OF COMMERCE

International Trade Administration

[A-570-851]

Certain Preserved Mushrooms from the People's Republic of China: Extension of Time Limit for Preliminary Results of Antidumping Duty New Shipper Review

AGENCY: Import Administration, International Trade Administration, Department of Commerce.

EFFECTIVE DATE: (March 19, 2008.

FOR FURTHER INFORMATION CONTACT: Zev Primor, AD/CVD Operations, Office 4, Import Administration, International Trade Administration, U.S. Department of Commerce, 14th Street and Constitution Avenue, NW, Washington, DC 20230; telephone: (202) 482-4114.

SUPPLEMENTARY INFORMATION: On September 27, 2007, the Department of Commerce (“Department”) published a notice of initiation of a new shipper review of the antidumping duty order on certain preserved mushrooms from the People's Republic of China, covering the period of review of February 1, 2007, to July 31, 2007, and Dujiangyan Xingda Foodstuff Co., Ltd. (“Xingda”). See Certain Preserved Mushrooms from the People's Republic of China: Initiation of New Shipper Review, 72 FR 54899 (September 27, 2007).

Extension of Time Limit for Preliminary Results

Pursuant to section 751(a)(2)(B)(iv) of the Tariff Act of 1930, as amended (“Act”), and 19 CFR 351.214(i)(1), the Department shall issue preliminary results in a new shipper review of an antidumping duty order within 180 days after the date on which the new shipper review was initiated. The Act and regulations further provide, however, that the Department may extend that 180-day period to 300 days if it determines that this review is extraordinarily complicated. See section 751(a)(2)(B)(iv) of the Act and 19 CFR 351.214(i)(2).

The Department finds that this review is extraordinarily complicated and that it is not practicable to complete this new shipper review within the foregoing time period. Specifically, the Department must issue supplemental questionnaires to obtain additional information about (1) Xingda's complex methodology for allocating consumption rates of factors of production, and (2) the bona fides of its U.S. sale. Accordingly, the Department finds that additional time is needed in order to complete these preliminary results.

Section 751(a)(2)(B)(iv) of the Act and 19 CFR 351.214(i)(2) allow the Department to extend the deadline for the preliminary results to a maximum of 300 days from the date of initiation of the new shipper review. The current deadline for the preliminary results is March 19, 2008. For the reasons noted above, we are extending the 180-day deadline for the completion of the preliminary results of this new shipper review by an additional 60 days, to 240 days from September 21, 2007, the date of initiation, until no later than May 19, 2008.¹ The deadline for the final results of this new shipper review continues to be 90 days after the date on which the preliminary results were issued.

¹ Because 240 days from September 21, 2007, falls on May 18, 2008, which is a Sunday, the deadline for completing the preliminary results of this new shipper review shall be the next business day, May 19, 2008.

This notice is issued and published in accordance with sections 751(a)(2)(B)(iv) and 777(i)(1) of the Act, and 19 CFR 351.214(i)(2).

Dated: March 13, 2008.
Stephen J. Claeys,
Deputy Assistant Secretary for Import Administration.

[FR Doc. E8-5553 Filed 3-18-08; 8:45 am]

BILLING CODE 3510-DS-S